INTERNATIONAL TRADE COMMISSION

[Inv. No. 337-TA-459]

In the Matter of Certain Garage Door Operators Including Components Thereof; Notice of Commission Determination not to Review an Initial Determination Terminating the Investigation as to the Last Three Respondents on the Basis of Withdrawal of the Complaint; Termination of the Investigation

AGENCY: International Trade Commission.

ACTION: Notice.

SUMMARY: Notice is hereby given that the U.S. International Trade Commission has determined not to review an initial determination (“ID”) (Order No. 18) issued by the presiding administrative law judge (“ALJ”) terminating the above-captioned investigation as to respondents Lynx Industries, Inc., Napoleon Spring Works, Inc., and Guardian Access Corp. on the basis of withdrawal of the complaint. Since these three respondents are the only respondents remaining in the investigation, their termination terminates the investigation.

FOR FURTHER INFORMATION CONTACT: Tim Yaworski, Esq., Office of the General Counsel, U.S. International Trade Commission, 500 E Street, SW., Washington, DC 20436, telephone 202-205-3096. Copies of all nonconfidential documents filed in connection with this investigation are or will be available for inspection during official business hours (8:45 a.m. to 5:15 p.m.) In the Office of the Secretary, U.S. International Trade Commission, 500 E Street, SW., Washington, DC 20436, telephone 202-205-2000. General information concerning the Commission may also be obtained by accessing its Internet server (http://www.usitc.gov). The public record for this investigation may be viewed on the Commission's electronic docket (EDIS-ON-LINE) at http://dockets.usitc.gov/eol.public. Hearing-impaired persons are advised that information on this matter can be obtained by contacting the Commission's TDD terminal on 202-205-1810.

SUPPLEMENTARY INFORMATION: The Commission instituted this investigation on July 19, 2001, based on a complaint filed by the Chamberlain Group, Inc. of Elmhurst, Illinois (“Chamberlain”) against six respondents, 66 FR 37704 (July 19, 2001). Two respondents and an intervenor were subsequently added to the investigation. The complaint alleged violations of section 337 of the Tariff Act of 1930 in the importation into the United States, the sale for importation, and the sale within the United States after importation of certain garage door operators including components thereof by reason of infringement of claims 1-8 of U.S. Letters Patent Re. 35,364 and claims 5-30 of U.S. Letters Patent Re. 36,703. On February 6, 2002, complainant Chamberlain filed a motion to terminate the investigation as to respondents Lynx Industries, Inc., Napoleon Spring Works, Inc., and Guardian Access Corp. on the basis of withdrawal of the complaint. The Commission investigative attorney supported the joint motion and the three respondents opposed it. On June 5, 2002, the ALJ issued an ID (Order No. 18) granting the motion.

No petitions for review of the ID were filed. This action is taken under the authority of section 337 of the Tariff Act of 1930, 19 U.S.C. 1337, and section 210.42 of the Commission's Rules of Practice and Procedure, 19 CFR 210.42.

By order of the Commission.
Issued: June 25, 2002.
Marilyn R. Abbott,
Secretary to the Commission.

[FR Doc. 02-16475 Filed 6-28-02; 8:45 am]

BILLING CODE 7020-02-P